DEPARTMENT OF ENERGY

Office of Civilian Radioactive Waste Management; Site Recommendation Consideration Hearings; Yucca Mountain—Announcement of Changes in Public Hearing for September 5, 2001

AGENCY: Office of Civilian Radioactive Waste Management, Department of Energy.

ACTION: Notice of expanded public hearing and site changes.

SUMMARY: The Department of Energy (the Department) announces an expansion of the public hearing on September 5, 2001, on the possible recommendation of the Yucca Mountain Site in Nevada for development as a spent nuclear fuel and high-level radioactive waste geologic repository. The Department previously announced that a hearing would take place in Las Vegas, Nevada, on September 5, 2001. The Department now is announcing the expansion of this hearing to include sites in Carson City, Elko and Reno, Nevada. All four of these sites will be linked by videoconferencing. In addition, the Department is announcing a change in the location of the Las Vegas site.

DATES: The hearing will take place on September 5, 2001, starting at 6 pm through 9 pm, as announced previously in the Federal Register (66 FR 43850-43851).

ADDRESSES: Las Vegas: Department of Energy, Nevada Operations Office, Great Basin Room, 2332 Energy Way, North Las Vegas, Nevada 89193-8518, (On the west side of Losee Road between Cheyenne and Lake Mead); 5 pm-9 pm Poster Session; 6 pm-9 pm—Hearing. This is a new location for the Las Vegas hearing.

Carson City: Nevada State Legislative Building, Room #1214, 401 South Carson Street, Carson City, Nevada; 6 pm-9 pm—Hearing.

Elko: Elko Convention and Visitors Authority, 700 Moren Way, Elko, Nevada; 6 pm-9 pm—Hearing.

Reno: Desert Research Institute, Conference Rooms A/B, 2215 Raggio Parkway, Reno, Nevada; 6 pm-9 pm—Hearing.

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION: On May 7, 2001, the Department announced in the Federal Register (66 FR 23013-23016) the initiation of a public comment period on the Secretary's consideration of the Yucca Mountain site for recommendation as a spent nuclear fuel and high-level radioactive waste repository. In conjunction with the initiation of the comment period, the Department issued a report, the Yucca Mountain Science and Engineering Report (YMS&ER), summarizing the scientific and technical information compiled by the Department to date outlining the preliminary design and performance attributes of a potential geologic repository at the Yucca Mountain site. This report was provided to inform the public and facilitate public comment and review on the technical and scientific information and analyses forming the basis for the Department's consideration of a possible site recommendation.

On August 21, 2001, the Department announced in the Federal Register (66 FR 43850-43851) the issuance of another report, the Preliminary Site Suitability Evaluation (PSSE), that also is intended to inform the public and facilitate public review and comment on a possible site recommendation. The PSSE contains a preliminary evaluation of the suitability of the Yucca Mountain site for development as a geologic repository based on the Department's proposed site suitability regulations, to be codified as 10 CFR part 963. The preliminary evaluation described in the PSSE is based on information contained in the YMS&ER, supplemented by the most recent available technical information. Also, in the August 21 Federal Register Notice, the Department announced the scheduling of public hearings, in Las Vegas, Nevada on September 5, 2001, in Armagosa Valley on September 12, 2001, and in Pahrump, Nevada on September 13, 2001.

To provide greater accessability to the public hearings process within the State of Nevada, the Department has decided to expand the previously announced September 5th public hearing in Las Vegas to include three other cities in Nevada: Carson City, Elko and Reno. The public is invited to participate in the September 5th hearing at any of these sites by presenting oral views. All four of these sites will be linked by video conferencing. In the event that a video link fails during the hearing, there will be a Federal official and a court reporter present at each site to accept public comments for the record. This hearing will be informal, and the Department will use a facilitator in an effort to ensure it is fair and productive.

The Department was notified on August 28, that the previously announced Las Vegas site for the September 5th hearing would not be available to the Department. Since that site is no longer available to the Department, the Las Vegas site of the September 5th hearing has been changed to the Great Basin Room at the Department of Energy, Nevada Operations Office, 2332 Energy Way, North Las Vegas, Nevada 89193-8518. This facility is found on the west side of Losee Road between Cheyenne and Lake Mead.

The Department does not currently anticipate further changes in time or location. However, those planning to attend the September 5th hearing at any of the four sites may want to check the Yucca Mountain web site at www.ymp.gov or call 1-800-967-3477 to confirm times and locations.

Issued in Washington, DC on August 30, 2001.
Ronald A. Milner,
Chief Operating Officer, Office of Civilian Radioactive Waste Management.

[FR Doc. 01-22243 Filed 8-30-01; 1:18 pm]

BILLING CODE 6450-01-P